DEPARTMENT OF DEFENSE

Department of the Navy

Meeting of the Ocean Research and Resources Advisory Panel

AGENCY: Department of the Navy, DoD.

ACTION: Notice of open meeting.

SUMMARY: The Ocean Research and Resources Advisory Panel (ORRAP) will meet to discuss National Ocean Research Leadership Council (NORLC) and Interagency Committee on Ocean Science and Resource Management Integration (ICOSRMI) activities. All sessions of the meeting will remain open to the public.

DATES: The meeting will be held on Wednesday, June 27, 2007, from 8 a.m. to 5:30 p.m. and Thursday, June 28, 2007, from 8 a.m. to 1:30 p.m. In order to maintain the meeting time schedule, members of the public will be limited in their time to speak to the Panel. Members of the public should submit their comments one week in advance of the meeting to the meeting Point of Contact.

ADDRESSES: The meeting will be held at the Consortium for Ocean Research and Engineering, 1201 New York Ave., Suite 420, Washington, DC.

FOR FURTHER INFORMATION CONTACT: Dr. James E. Eckman, Office of Naval Research, 875 North Randolph Street, Suite 1425, Arlington, VA 22203-1995, telephone: 703-696-4590.

SUPPLEMENTARY INFORMATION: This notice of open meeting is provided in accordance with the Federal Advisory Committee Act (5 U.S.C. App. 2). The meeting will include discussions on ocean research to applications, ocean observing, professional certification programs, and other current issues in the ocean science and resource management communities.

Dated: June 1, 2007.
L.R. Almand,
Office of the Judge Advocate General, Administrative Law, Federal Register Liaison Officer.

[FR Doc. E7-10862 Filed 6-5-07; 8:45 am]

BILLING CODE 3810-FF-P